DEPARTMENT OF THE INTERIOR

Bureau of Land Management

[LLCA9300000.LVFL58740000.LXSS003B0000-CACA 50075]

Notice of Realty Action: Competitive Sale of Public Lands in San Bernardino County, CA

AGENCY: Bureau of Land Management, Interior.

ACTION: Notice of realty action.

SUMMARY: The Bureau of Land Management (BLM) proposes to sell a parcel of public land in San Bernardino County, California, consisting of approximately 40 acres. The sale will be conducted by the United States General Services Administration (GSA) as an online competitive bid auction, at GSA's Web site: http://www.auctionrp.com/. Interested bidders must first register to bid either at http://www.auctionrp.com or by mail and submit registration deposits, and once registered, may participate in online bidding. Bids must be equal to or greater than the appraised fair market value of the land. The sale will be completed under the authority of Sections 203 and 209 of the Federal Land Policy and Management Act of 1976 (43 U.S.C. 1713 and 1719) and the implementing regulations at 43 CFR 2710 and 2720. The purpose of the sale is to dispose of lands which are difficult and uneconomic to manage as part of the public lands.

DATES: Comments regarding the proposed sale must be received by BLM on or before January 29, 2009. Bidding will open on or around March 2, 2009 and will continue for at least 30 days. The date for receipt of final bids will be announced online, with 3 days notice. Bidding may continue beyond the date announced if deemed warranted by GSA due to bidder interest. Other deadline dates for payments, arranging payments, and payment by electronic transfers, are specified in the terms and condition of sale described herein. More specific information on the sale will be contained in an Invitation For Bids which will be available at http://www.auctionrp.com or http://www.propertydisposal.gsa.gov.

ADDRESSES: Comments regarding the proposed sale should be submitted to BLM, to the attention of the Barstow Field Manager, at the following address: Bureau of Land Management, 2601 Barstow Road, Barstow, California 92311. More detailed information regarding the proposed sale and the land involved, including maps and current appraisal may be reviewed during normal business hours between 8 a.m. and 4 p.m. at the Barstow Field Office. GSA's address for purposes of bid registration will be specified in the Invitation For Bids to be available a http://www.auctionrp.com.

FOR FURTHER INFORMATION CONTACT: Richard Rotte, Realty Specialist or Tom Gey, Realty Specialist (951) 697-55352 or via e-mail at Richard_rotte@ca.blm.gov or thomas_gey@ca.blm.gov.

SUPPLEMENTARY INFORMATION: The following public lands in San Bernardino County, California have been identified as available for sale under the 1980 BLM California Desert Conservation Area Plan, as amended, and are proposed for sale. The public lands proposed for sale consist of one parcel of approximately 40 acres. San Bernardino Meridian, California, T.10 N., R.2 W., sec. 32, NE¼NE¼. On December 15, 2008, the above-described land will be segregated from appropriation under the public land laws, including the mining laws, except the sale provisions of the FLPMA. Until completion of the sale, the BLM is no longer accepting land use applications affecting the identified public land, except applications for the amendment of previously-filed right-of-way applications or existing authorizations to increase the term of the grants in accordance with 43 CFR 2807.15 and 2886.15. The segregative effect will terminate upon issuance of a patent, publication in the Federal Register of a termination of the segregation, or January 5, 2009, unless extended by the BLM State Director in accordance with 43 CFR 2711.1-2(d) prior to the termination date. Proceeds from the sale will be deposited into the Federal Land Disposal Account, pursuant to the Federal Land Transaction Facilitation Act. The lands identified for sale have no known mineral value and the proposed sale would include the conveyance of both the surface and mineral interests of the United States. A bid to purchase the land will constitute an application for conveyance of the mineral interest and in conjunction with the final payment; the applicant will be required to pay a $50.00 non-refundable filing fee for processing the conveyance of the mineral interest.

The terms and conditions applicable to this sale are as follows:

1. The lands will be conveyed with the following reservations to the United States: (a) A reservation of a right-of-way to the United States for ditches and canals constructed by authority of the United States under the Act of August 30, 1890 (43 U.S.C. 945), (b) A reservation of a right-of-way for a federal aid highway issued to the California Department of Transportation under serial number CALA 6884, and (c) A reservation of a right-of-way to the United States for a road for administrative purposes and for the public under serial number CACA 50518.

2. The lands will also be conveyed subject to the following valid existing rights: (a.) A right of way (ROW) for an access road issued to Golden State Holdings, LLC, under serial number CACA 15388, and (b.) A ROW for a fiber optic cable issued to Sprint Communications Co. under serial number CACA 20105. Parcels may be subject to applications for rights of way received prior to publication of this Notice if processing the application would not adversely affect the marketability or appraised value of a parcel. The encumbrances of record, appearing in the BLM public files for the parcel proposed for sale, are available for review during the hours stated above Monday through Friday at the Barstow Field Office.

3. The lands may also be conveyed subject to such additional easements as may be necessary to authorize existing and proposed roads, public utilities and flood control facilities based on San Bernardino County's transportation and land management plans.

4. No warranty of any kind, express or implied, is given by the United States as to the title, physical condition or potential uses of the lands proposed for sale; and the conveyance will not be on a contingency basis. To the extent required by law, all such parcels are subject to the requirements of Section 120(h) of the Comprehensive Environmental Response Compensation and Liability Act, as amended (CERCLA) (42 U.S.C. 9620(h)).

5. All purchasers/patentees, by accepting a patent, covenant and agree to indemnify, defend and hold the United States harmless from any costs, damages, claims, causes of action, penalties, fines, liabilities, and judgments of any kind or nature arising from the past, present, and future acts or omissions of the patentees or their employees, agents, contractors, or lessees, or any third-party, arising out of or in connection with the patentees' use, occupancy, or operations on the patented real property. This indemnification and hold harmless agreement includes, but is not limited to, acts and omissions of the patentees and their employees, agents, contractors, or lessees, or any third party, arising out of or in connection with the use and/or occupancy of the patented real property which has already resulted or does hereafter result in: (1) Violations of Federal, state, and local laws and regulations that are now or may in the future become applicable to the real property; (2) Judgments, claims or demands of any kind assessed against the United States; (3) Costs, expenses, or damages of any kind incurred by the United States; (4) Releases or threatened releases of solid or hazardous waste(s) and/or hazardous substances(s), as defined by Federal or state environmental laws, off, on, into or under land, property and other interest of the United States; (5) Activities by which solids or hazardous substances or waste, as defined by Federal and state environmental laws are generated, released, stored, used or otherwise disposed of on the patented real property, and any cleanup response, remedial action or other actions related in any manner to said solid or hazardous substances or wastes; or (6) Natural resource damages as defined by Federal and state law. This covenant shall be construed as running with the parcel of land patented or otherwise conveyed by the United States, and may be enforced by the United States in a court of competent jurisdiction.

6. An initial registration deposit of $10,000 must be provided to GSA to participate in online bidding. The procedure to register and submit the registration deposit for online bidding will be described in detail in the Invitation For Bids to be available at www.auctionrp.com. Each bid received shall be deemed to be a continuing offer for 90 calendar days after the date of the final bid submittal by a bidder until the bid is accepted or rejected by the Government. If the Government desires to accept any bid after the expiration of the 90 calendar days, the consent of the bidder shall be obtained prior to such expiration.

7. The highest qualifying bid will be declared the high bid and the high bidder will receive written notice. The high bidder will be required to secure his bid with a bid deposit of cash funds equal to 10% of the bid amount within 10 days of being notified that the United States has accepted his bid. The high bidder's $10,000 registration deposit will be applied to make up a portion of the required 10% bid deposit. Bid results will also be posted on the Internet at GSA's Web site: http://www.auctionrp.com.

8. The remainder of the full bid price must be paid within 180 calendar days of the award letter, in the form of a certified check, money order, bank draft, or cashier's check made payable in U.S. dollars to the Bureau of Land Management. Personal checks will not be accepted. Failure to pay the full price within the 180 days will disqualify the apparent high bidder and cause the entire bid deposit to be forfeited to the BLM.

9. Registration deposits submitted by unsuccessful bidders will be returned by GSA.

10. The BLM may accept or reject any or all offers, or withdraw any parcel of land or interest therein from sale, if, in the opinion of the BLM authorized officer, consummation of the sale would not be fully consistent with FLPMA or other applicable law or is determined to not be in the public interest.

11. Under Federal law, the public lands may only be conveyed to U.S. citizens 18 years of age or older; a corporation subject to the laws of any State or of the United States; a State, State instrumentality, or political subdivision authorized to hold property, or an entity legally capable of conveying and holding lands under the laws of the State of California. Certification of qualifications, including citizenship or corporation or partnership, must be provided to the Bureau of Land Management prior to conveyance.

Additional Information: If not sold, the lands described in this Notice may be identified for sale later without further legal notice and may be offered for sale by sealed bid, internet auction, or oral auction. In order to determine the value, through appraisal, of the land proposed to be sold, certain extraordinary assumptions may have been made of the attributes and limitations of the lands and potential effects of local regulations and policies on potential future land uses. Through publication of this Notice, the Bureau of Land Management gives notice that these assumptions may not be endorsed or approved by units of local government. It is the buyer's responsibility to be aware of all applicable local government policies, laws, and regulations that would affect the subject lands, including any required dedication of lands for public uses. It is also the buyer's responsibility to be aware of existing or projected uses of nearby properties. When conveyed out of Federal ownership, the lands will be subject to any applicable reviews and approvals by the respective unit of local government for proposed future uses, and any such reviews and approvals will be the responsibility of the buyer. Any land lacking access from a public road or highway will be conveyed as such, and future access acquisition will be the responsibility of the buyer. Information concerning the sale, including the reservations, sale procedures and conditions, CERCLA and other environmental documents will be available for review at the Barstow Field Office. Most of this information will be available on the Internet at http://www.ca.blm.gov/ca/st/en/barstow.html.

Public Comments: The general public and interested parties may submit comments regarding the proposed sale to the attention of the Barstow Field Manager on or before January 29, 2009. Any adverse comments regarding the proposed sale will be reviewed by the California BLM State Director or other authorized official of the Department, who may sustain, vacate, or modify this realty action in whole or in part. Before including your address, phone number, e-mail address, or other personal identifying information in your comment, be advised that your entire comment—including your personal identifying information—may be made publicly available at any time. While you can ask us in your comment to withhold from public review your personal identifying information, we cannot guarantee that we will be able to do so.

Authority: 43 CFR 2711.1-2(a) and (c).

Dated: December 5, 2008.
Tom Pogacnik,
Deputy State Director, Natural Resources (CA-930).

[FR Doc. E8-29571 Filed 12-12-08; 8:45 am]

BILLING CODE 4310-40-P